Proclamation 7778 of April 30, 2004

Law Day, U.S.A., 2004

By the President of the United States of America

A Proclamation

The theme of this year's Law Day, “To Win Equality by Law: Brown v. Board at 50,” celebrates the 50th anniversary of the Supreme Court's landmark decision in Brown v. Board of Education.

The Declaration of Independence declared the equality of each person before God and the responsibility of Government to secure the rights of all. However, it was not until ratification of the 14th Amendment in 1868 that the equality of all citizens under law was guaranteed by the Constitution. Still, for decades afterwards, millions of African-American citizens were subjected to shameful discrimination, and in many public school systems, students were segregated by race. Finally, in the 1954 Brown decision, the Supreme Court ruled that segregating students in our public schools violated our Constitution.

Our Nation is grateful for the brave men and women and boys and girls who challenged segregation and helped make equal justice under law a reality for all Americans. We remember Thurgood Marshall, the heroic lawyer who represented Linda Brown and fought for her rights and the rights of all African Americans. We remember the nine justices of the Supreme Court of the United States who helped America begin to make equal justice under law a reality for African Americans.

Nearly 50 years after Brown, we appreciate the progress America has made, but we also recognize that there is still work to be done to ensure that our country lives up to the founding principle that all of God's children are created equal. As we observe this Law Day and commemorate the anniversary of Brown v. Board of Education, I encourage all Americans to celebrate the great distance we have traveled as a Nation and to continue our work to promote equality and opportunity for all.

NOW, THEREFORE, I, GEORGE W. BUSH, President of the United States of America, in accordance with Public Law 87-20, as amended, do hereby proclaim May 1, 2004, as Law Day, U.S.A. I call upon all the people of the United States to observe this day with appropriate ceremonies and activities. I also call upon Government officials to display the flag of the United States in support of this national observance.

IN WITNESS WHEREOF, I have hereunto set my hand this thirtieth day of April, in the year of our Lord two thousand four, and of the Independence of the United States of America the two hundred and twenty-eighth.

B

[FR Doc. 04-10368

Filed 5-4-04; 8:45 am]

Billing code 3195-01-P